DEPARTMENT OF VETERANS AFFAIRS

Vocational Rehabilitation and Employment (VR&E) Task Force; Notice of Establishment

As required by section 9(a)(2) of Public Law 92-463 (Federal Advisory Committee Act), the Department of Veterans Affairs (VA) hereby gives notice of the establishment of the Vocational Rehabilitation and Employment (VR&E) Task Force. The Secretary of Veterans Affairs has determined that establishing the Task Force is both necessary and in the public interest.

The Task Force will conduct an independent review of the VR&E Program within the Veterans Benefits Administration (VBA). The Task Force will make recommendations to the Secretary of Veterans Affairs on improving the Department's ability to provide comprehensive services and assistance to veterans with service-connected disabilities and employment handicaps in becoming employable, and obtaining and maintaining suitable employment. The Task Force will also assess independent living services provided by VA.

The duties and responsibilities of the Task Force will focus on training, employment, and independent living services. The Task Force will engage in the following activities: (i) Conduct a functional and organizational assessment of the VR&E Service; (ii) evaluate eligibility criteria, procedures, and processes for determining how a veteran is approved for training, employment, or independent living services as governed by applicable provisions of chapter 31 of title 38, United States Code; (iii) appraise current VR&E processes, information systems, and management controls; (iv) determine consistency in the administration of the VR&E Program across VBA regional offices; and (v) examine clinical rehabilitation practices and employment placement services being utilized by other Federal, state, local or private organizations serving disabled persons, including veterans.

Dated: March 18, 2003.
By direction of the Secretary.
E. Philip Riggin,
Committee Management Officer.

[FR Doc. 03-6902 Filed 3-21-03; 8:45 am]

BILLING CODE 8320-01-M